DEPARTMENT OF HEALTH AND HUMAN SERVICES

Child Support Enforcement Office; Administration for Children and Families

Contract to the State Information Technology Consortium

AGENCY: Office of Child Support Enforcement, ACF, DHHS.

ACTION: Contract award announcement.

SUMMARY: Notice is hereby given that a contract is being awarded to the State Information Technology Consortium (SITC) of Herndon, Virginia, in the amount of $2,000,000 to help improve the coordination of child support enforcement activities.

Congress recognizes that seamless and cost-effective processes for information-sharing among state human service agencies and courts are critical to states in meeting the complex information and systems reporting requirements of the Child Support Enforcement Program. Accordingly, it has earmarked $2,000,000 to SITC to identify and widely disseminate methods for improving the flow of information between federal and state agencies and the state court system. Over the past several years, SITC has successfully performed, and continues to perform, similar services for the Office of Family Assistance to assist states in meeting the information and systems reporting requirements of the Temporary Assistance to Needy Families (TANF) Program. Given this success, it is expected that SITC will be equally as effective in its efforts to help improve coordination in the Child Support Enforcement Program. The period of this funding will extend through April 30, 2003.

FOR FURTHER INFORMATION CONTACT: Nehemiah Rucker, Office of Child Support Enforcement, Administration for Children and Families, 370 L'Enfant Promenade, SW., Washington, DC 20447, telephone 202-260-5494.

Dated: April 5, 2002.
Sherri Z. Heller,
Commissioner, Office of Child Support Enforcement.

[FR Doc. 02-9156 Filed 4-15-02; 8:45 am]

BILLING CODE 4184-01-M